DEPARTMENT OF COMMERCE

National Oceanic and Atmospheric Administration

50 CFR Part 679

[250813-0138; RTID 0648-XE346]

Fisheries of the Exclusive Economic Zone off Alaska; Bering Sea and Aleutian Islands; Final 2025 and 2026 Harvest Specifications for Groundfish; Correction

AGENCY: National Marine Fisheries Service (NMFS), National Oceanic and Atmospheric Administration (NOAA), Commerce.

ACTION: Final rule; correction.

SUMMARY: On March 18, 2025, NMFS published the final rule to implement the 2025 and 2026 harvest specifications, apportionments, and prohibited species catch (PSC) allowances for the groundfish fishery of the Bering Sea and Aleutian Islands management area (BSAI). Following publication, errors were identified in table 21, which provides notice of allocations of groundfish and apportionments of PSC limits for the Community Development Quota (CDQ) groups. This rule corrects the errors in table 21.

DATES: Effective August 25, 2025, through 2400 hours, A.l.t., December 31, 2025.

FOR FURTHER INFORMATION CONTACT: Steve Whitney, 907-206-6783.

SUPPLEMENTARY INFORMATION:

Background

NMFS publishes this rule to correct errors in table 21 of the final BSAI 2025 and 2026 groundfish harvest specifications. Table 21 sets forth the allocations of groundfish and apportionments of PSC allowances for the CDQ groups. PSC allowances are apportioned to individual CDQ groups as prohibited species quota (PSQ). In 2006, Public Law 109-241 amended section 305(i)(1) of the Magnuson-Stevens Fishery Conservation and Management Act (Magnuson-Stevens Act) (16 U.S.C. 1855(i)(1)) to provide for the allocation of CDQ groundfish among certain entities. The six CDQ groups receiving allocations are the Aleutian Pribilof Island Community Development Association (APICDA), Bristol Bay Economic Development Corporation (BBEDC), Central Bering Sea Fisherman's Association (CBSFA), Coastal Villages Regional Fund (CVRF), Norton Sound Economic Development Corporation (NSEDC), and Yukon Delta Fisheries Development Association (YDFDA). NMFS published the CDQ groundfish and PSQ percentages on August 31, 2006 (71 FR 51804). The groundfish and PSQ amounts for each CDQ group are based on those percentages as applied to the total 2025 CDQ amounts in the final groundfish harvest specifications, which were published on March 18, 2025 (90 FR 12640). Those amounts for each CDQ group for 2025 are shown in table 21.

Need for Correction

Multiple errors were discovered in the percentages of flatfish allocations between the six CDQ groups. As a result, the final rule specified CDQ allocations that are inconsistent with statute and regulation. This correction replaces table 21 with a correct table 21 that contains the correct groundfish and PSQ amounts for each CDQ group.

Classification

NMFS issues this final rule pursuant to section 305(d) of the Magnuson-Stevens Act because through previous actions, the Fishery Management Plan (FMP) for Groundfish of the BSAI and implementing regulations authorize NMFS to take this action pursuant to section 305(d) (see 50 CFR part 679). The NMFS Assistant Administrator has determined that this final rule is consistent with the FMP, the Magnuson-Stevens Act, and other applicable laws.

This action is authorized under 50 CFR 679.20 and is exempt from review under Executive Order 12866.

Pursuant to 5 U.S.C. 553(b)(B), there is good cause to waive prior notice and an opportunity for public comment on this action, as notice and comment would be unnecessary and contrary to the public interest. The Magnuson-Stevens Act specifies how to set the percentage allocations of certain groundfish species among each of the six CDQ groups. NMFS applies these statutorily-mandated percentages to the final total allowable catch for those groundfish species each year to calculate each CDQ group's allocation of groundfish species. NMFS does not have discretion to change the percentage allocations or the final allocations in the annual BSAI groundfish harvest specifications. Therefore, prior notice and an opportunity for public comment is unnecessary on this final rule to correct flatfish allocations that are inconsistent with statute and regulation. In addition, notice and comment would prevent NMFS from correcting the CDQ groundfish allocations in a timely fashion and would delay publishing the correct allocations for CDQ fisheries that are currently underway. These errors were discovered only after publication of the final BSAI 2025 and 2026 groundfish harvest specifications, and now these fisheries are currently being prosecuted. If this correction is delayed to allow for notice and comment, it would result in confusion for participants in the CDQ fisheries, given that the final rule implementing the BSAI 2025 and 2026 groundfish harvest specifications is already effective. Without this correction, participants in the CDQ fisheries may believe that there are different amounts available for harvest in 2025 then are actually available. Therefore, there is good cause to waive the requirement to provide prior notice and opportunity for public comment in order to avoid any negative consequences that could result from delaying notice of these corrections.

For the same reasons, good cause to waive the 30-day delay in the effective date of this action under 5 U.S.C. 553(d)(3) exists.

Because prior notice and opportunity for public comment are not required for this rule by 5 U.S.C. 553, or any other law, the analytical requirements of the Regulatory Flexibility Act, 5 U.S.C. 601 et seq., are inapplicable.

This rule contains no information collection requirements under the Paperwork Reduction Act of 1995.

Correction

In the Federal Register of March 18, 2025, in FR Doc. 2025-04406, on page 12659, Table 21 is corrected as follows:

Table 21—2025 CDQ Program Quota Categories, Target CDQ Reserves, Prohibited Species Quota (PSQ) Reserves, and CDQ Group Quotas
Species or species group | APICDA | BBEDC | CBSFA | CVRF | NSEDC | YDFDA | Total
Groundfish units are in metric tons.
BS Pollock A season | 8,662.5 | 12,993.8 | 3,093.8 | 14,850.0 | 13,612.5 | 8,662.5 | 61,875
BS Pollock B season | 10,587.5 | 15,881.3 | 3,781.3 | 18,150.0 | 16,637.5 | 10,587.5 | 75,625
BS Pollock Total | 19,250.0 | 28,875.0 | 6,875.0 | 33,000.0 | 30,250.0 | 19,250.0 | 137,500
AI Pollock | 266.0 | 399.0 | 95.0 | 456.0 | 418.0 | 266.0 | 1,900
BS Fixed Gear Sablefish | 127.4 | 169.9 | 135.9 | 0.0 | 152.9 | 263.4 | 850
AI Fixed Gear Sablefish | 166.7 | 226.3 | 35.7 | 321.6 | 273.9 | 166.7 | 1,191
BS Sablefish | 66.9 | 70.1 | 28.7 | 41.4 | 41.4 | 70.1 | 319
AI Sablefish | 38.7 | 29.8 | 11.9 | 19.4 | 17.9 | 31.3 | 149
BS Pacific cod | 2,208.4 | 2,993.2 | 1,266.7 | 2,562.5 | 2,554.0 | 2,710.7 | 14,295
AI Pacific cod | 143.7 | 194.8 | 82.4 | 166.8 | 166.2 | 176.4 | 930
WAI Atka Mackerel | 595.6 | 297.8 | 158.8 | 297.8 | 278.0 | 357.4 | 1,986
CAI Atka Mackerel | 784.5 | 392.4 | 209.2 | 392.3 | 366.2 | 470.8 | 2,615
EAI/BS Atka Mackerel | 1,251.7 | 626.0 | 333.9 | 626.0 | 584.3 | 751.1 | 4,173
Yellowfin Sole | 4,002.9 | 3,455.9 | 1,156.0 | 917.8 | 1,052.6 | 3,859.7 | 14,445
Yellowfin Sole ABC reserves | 3,782.2 | 3,265.4 | 1,092.2 | 867.2 | 994.6 | 3,646.9 | 13,649
Rock Sole | 1,931.5 | 1,846.1 | 639.2 | 877.8 | 879.5 | 1,850.9 | 8,025
Rock Sole ABC reserves | 2,124.3 | 2,030.4 | 703.0 | 965.4 | 967.3 | 2,035.7 | 8,826
BS Greenland Turbot | 24.2 | 30.3 | 12.1 | 25.7 | 28.8 | 30.3 | 151
Arrowtooth Flounder | 329.6 | 329.6 | 134.8 | 194.7 | 179.8 | 329.6 | 1,498
Flathead Sole | 772.3 | 812.4 | 341.7 | 576.9 | 576.2 | 772.5 | 3,852
Flathead Sole ABC reserves | 1,025.6 | 1,078.8 | 453.8 | 766.2 | 765.2 | 1,025.8 | 5,115
WAI Pacific Ocean Perch | 369.2 | 184.6 | 98.4 | 184.6 | 172.3 | 221.5 | 1,231
CAI Pacific Ocean Perch | 178.4 | 89.2 | 47.6 | 89.2 | 83.3 | 107.1 | 595
EAI Pacific Ocean Perch | 201.5 | 100.8 | 53.7 | 100.8 | 94.0 | 120.9 | 672
PSQ
Halibut PSQ is in metric tons. Crab and salmon PSQ are in number of animals.
Zone 1 Red King Crab | 2,491 | 2,180 | 830 | 1,245 | 1,245 | 2,387 | 10,379
Zone 1 Bairdi Tanner Crab | 27,264 | 25,166 | 8,389 | 8,389 | 8,389 | 27,264 | 104,860
Zone 2 Bairdi Tanner Crab | 76,270 | 73,092 | 25,423 | 34,957 | 31,779 | 76,270 | 317,790
COBLZ Opilio Tanner Crab | 343,738 | 329,988 | 109,996 | 137,495 | 109,996 | 343,738 | 1,374,950
Pacific Halibut | 69 | 69 | 28 | 38 | 38 | 72 | 315
BS Chinook Salmon A season | 547 | 820 | 195 | 937 | 859 | 547 | 3,906
BS Chinook Salmon B season | 139 | 208 | 50 | 238 | 218 | 139 | 990
BS Chinook Salmon total | 685 | 1,028 | 245 | 1,175 | 1,077 | 685 | 4,896
AI Chinook Salmon | 7 | 11 | 3 | 13 | 12 | 7 | 53
Non-Chinook Salmon | 629 | 944 | 225 | 1,079 | 989 | 629 | 4,494
Refer to § 679.2 for definitions of areas and zones.

Authority: 16 U.S.C. 1801 et seq.

Dated: August 18, 2025.
Samuel D. Rauch III,
Deputy Assistant Administrator for Regulatory Programs, National Marine Fisheries Service.

[FR Doc. 2025-16242 Filed 8-22-25; 8:45 am]

BILLING CODE 3510-22-P